OFFICE OF SPECIAL COUNSEL

5 CFR Part 1800

Filing of Complaints of Prohibited Personnel Practices or other Prohibited Activities and Filing Disclosures of Information; Correction

AGENCY: U.S. Office of Special Counsel.

ACTION: Notice of proposed rulemaking and related information collection activity; Correction.

SUMMARY: This document corrects the Addresses section to a proposed rule published in the Federal Register as of September 2, 2016, regarding Filing of Complaints of Prohibited Personnel Practices or other Prohibited Activities and Filing Disclosures of Information. This correction addresses a typographical error in the email address used for submitting a comment pursuant to the notice.

FOR FURTHER INFORMATION CONTACT: Kenneth Hendricks, (202) 254-3600.

Correction

In proposed rule FR Doc. 2016-20527, on page 1 in the issue of September 2, 2016, make the following correction in the ADDRESSES section of the preamble. On page 1 on the last line of the second bullet, change the email address to the following: “oira_submission@omb.eop.gov”

Dated: October 11, 2016.
Bruce Gipe,
Chief Operating Officer.

[FR Doc. 2016-24974 Filed 10-14-16; 8:45 am]

BILLING CODE 7405-01-P